DEPARTMENT OF THE INTERIOR

National Park Service

[NPS-WASO-APCE-PPS-19584; PPWOPCAD00; PPMRSCR1Y.Y00000]

Notice of Availability and Request for Comments on Draft Director's Order #21 Concerning National Park Service Policies and Procedures Governing Philanthropic Partnerships

AGENCY: National Park Service, Interior.

ACTION: Notice of availability.

SUMMARY: The National Park Service (NPS), under its authority at 54 U.S.C. 100101(a) et seq., has prepared a new, revised Director's Order setting forth the policies and procedures that guide NPS philanthropic partnerships to reflect the evolving nature of this topic and updated terms and practices used by today's growing field of philanthropy and fundraising professionals. Once adopted, the policies and procedures will supersede and replace the policies and procedures issued in July 2008.

DATES: Written comments will be accepted until May 16, 2016.

ADDRESSES: Draft Director's Order #21 is available online at: http://parkplanning.nps.gov/DO-21, where readers may submit comments electronically.

FOR FURTHER INFORMATION CONTACT: Reginald Chapple, Division Chief, Office of Partnerships & Philanthropic Stewardship, National Park Service, at reginald_chapple@nps.gov, or by phone at 202-354-2112.

SUPPLEMENTARY INFORMATION: The NPS is updating its current system of internal written policy guidance. When these updated documents contain new policies or internal procedural requirements that may affect parties outside the NPS, the NPS, as a matter of policy, makes them available for public review and comment before adopting them.

After public review and comment, the NPS will issue a new, revised Director's Order #21 and accompanying reference manual. Director's Order #21 covers topics such as criteria for reviewing, accepting, and recognizing donations; establishing roles and responsibilities for NPS employees who work with the philanthropic sector; and identifying agreements for fundraising and sponsorship activities.

Public Availability of Comments: Before including your address, phone number, email address, or other personal identifying information in your comment, you should be aware that your entire comment—including your personal identifying information—may be made publicly available at any time. While you may ask us in your comment to withhold your personal identifying information from public review, we cannot guarantee that we will be able to do so.

Dated: March 8, 2016.
Jeffrey P. Reinbold,
Assistant Director, Partnerships and Civic Engagement, National Park Service.

[FR Doc. 2016-07089 Filed 3-29-16; 8:45 am]

BILLING CODE 4310-EE-P